DEPARTMENT OF TRANSPORTATION

Office of the Secretary of Transportation

Notice of Increase in Civil Penalty for Violations of National Traffic and Motor Vehicle Safety Act

AGENCY: Office of the Secretary of Transportation, Department of Transportation.

ACTION: Public notice.

SUMMARY: This notice is to inform the public that NHTSA has satisfied the requirements in the Fixing America's Surface Transportation Act (FAST Act) necessary for increases in the maximum amount of civil penalties that NHTSA may collect for violations of the National Traffic and Motor Vehicle Safety Act (Vehicle Safety Act) to become effective.

DATES: Effective date: The amendments to 49 U.S.C 30165(a) authorized by Section 24110(a) of the FAST Act are effective March 17, 2016.

FOR FURTHER INFORMATION CONTACT: Thomas Healy, Office of the Chief Counsel, NHTSA, 1200 New Jersey Ave. SE., West Building, W41-211, Washington, DC 20590. Telephone: (202) 366-2992 Fax: (202) 366-3820.

SUPPLEMENTARY INFORMATION: On December 4, 2015, the FAST Act, Public Law 114-94, was signed into law. Section 24110 of the FAST Act increases the maximum civil penalty that NHTSA may collect for each violation of the Vehicle Safety Act to $21,000 per violation (currently $7,000) and the maximum amount of civil penalties that NHTSA can collect for a related series of violations to $105 million (currently $35 million). In order for these increases to become effective, the Secretary of Transportation must certify to Congress that NHTSA has issued the final rule required by Section 31203 of the Moving Ahead for Progress in the 21st Century Act. Section 31203 required NHTSA to provide an interpretation of civil penalty factors in 49 U.S.C. 30165 for NHTSA¹ to consider in determining the amount of penalty or compromise for violations of the Vehicle Safety Act. Pub. L. 112-141, § 31203, 126 Stat. 758 (2012). The increases in maximum civil penalties in Section 24110 of the FAST Act became effective the date of the Secretary's certification.

¹ NHTSA has been delegated the Secretary of Transportation's authority to determine the amount of civil penalty or compromise for violations of the Vehicle Safety Act. 49 CFR 1.95.

NHTSA issued the final rule required by Section 31203 of MAP-21 on February 24, 2016. On March 17, 2016, the Secretary certified to Congress by letter to the Chairman and Ranking Member of the Senate Committee on Commerce, Science, and Transportation, and to the Chairman and Ranking Member of the House Committee on Energy and Commerce that NHTSA had issued the Final Rule. Therefore, NHTSA shall enforce the increased maximum civil penalties for violation of the Vehicle Safety Act in 49 U.S.C. 30165 effective March 17, 2016.

Authority: Pub. L. 114-94.

Issued on: March 17, 2016.
Anthony Foxx,
Secretary of Transportation.

[FR Doc. 2016-06433 Filed 3-21-16; 8:45 am]

BILLING CODE 4910-59-P